DEPARTMENT OF ENERGY

Federal Energy Regulatory Commission

[Docket No. ER01-2953.000, et al.]

Allegheny Energy Supply Company, LLC, et al.; Electric Rate and Corporate Regulation Filings

September 5, 2001.

Take notice that the following filings have been made with the Commission:

1. Allegheny Energy Supply Company, LLC

[Docket No. ER01-2953-000]

Take notice that on August 29, 2001, Allegheny Energy Service Corporation on behalf of Allegheny Energy Supply Company, LLC (Allegheny Energy Supply) filed Service Agreement No. 148 to add one (1) new Customer to the Market Rate Tariff under which Allegheny Energy Supply offers generation services.

Allegheny Energy Supply proposes to make service available as of August 1, 2001 to Wisconsin Electric Power Company.

Copies of the filing have been provided to all parties of record.

Comment date: September 19, 2001, in accordance with Standard Paragraph E at the end of this notice.

2. Duke Energy Vermillion, LLC

[Docket No. ER01-2954-000]

Take notice that on August 29, 2001, Duke Energy Vermillion, LLC (Duke Vermillion) filed proposed revisions to its market-based rate tariff, FERC Electric Tariff No. 1, with changes clarifying the affiliate restrictions contained in its code of conduct. The revised rate tariff will go into effect upon the dissolution of VMC Generating Company and the transfer of the limited liability company membership interests in Duke Vermillion to Duke Energy Trenton, LLC.

Comment date: September 19, 2001, in accordance with Standard Paragraph E at the end of this notice.

3. PSEG Energy Resources & Trade LLC

[Docket No. ER01-2955-000]

Take notice that on August 29, 2001, PSEG Energy Resources & Trade LLC (PSEG) of Newark, New Jersey tendered for filing an agreement for the sale of capacity and energy to MIECO Inc. (MIECO) pursuant to the PSEG Wholesale Power Market-Based Sales Tariff, presently on file with the Commission.

PSEG requests that the agreement be made effective as of July 30, 2001.

Copies of the filing have been served upon MIECO and the New Jersey Board of Public Utilities.

Comment date: September 19, 2001, in accordance with Standard Paragraph E at the end of this notice.

4. Portland General Electric Company

[Docket No. ER01-2956-000]

Take notice that on August 29, 2001, Portland General Electric Company (PGE) tendered for filing with the Federal Energy Regulatory Commission (Commission) under PGE's FERC Electric Tariff Original Volume No. 12, an executed Service Agreement for Sale, Assignment, or Transfer of Transmission Rights with PacifiCorp Power Marketing, Inc.

PGE respectfully requests that the Service Agreement become effective August 8, 2001.

A copy of this filing was caused to be served on PacifiCorp Power Marketing, Inc. and Public Utility Commission of Oregon, as noted in the filing letter.

Comment date: September 19, 2001, in accordance with Standard Paragraph E at the end of this notice.

5. Florida Power Corporation

[Docket No. ER01-2957-000]

Take notice that on August 29, 2001, Florida Power Corporation (FPC) tendered for filing an executed Netting Agreement between FPC and The Energy Authority.

FPC is requesting an effective date of June 15, 2001 for this Rate Schedule.

A copy of the filing was served upon the Florida Public Service Commission.

Comment date: September 19, 2001, in accordance with Standard Paragraph E at the end of this notice.

6. California Independent System Operator Corporation

[Docket No. ER01-2958-000]

Take notice that on August 29, 2001, the California Independent System Operator Corporation, (ISO), tendered for filing with the Federal Energy Regulatory Commission (Commission) a Participating Generator Agreement between the ISO and GWF Energy LLC for acceptance by the Commission.

The ISO states that this filing has been served on GWF Energy LLC and the California Public Utilities Commission.

The ISO is requesting that the Participating Generator Agreement be made effective August 22, 2001.

Comment date: September 19, 2001, in accordance with Standard Paragraph E at the end of this notice.

7. California Independent System Operator Corporation

[Docket No. ER01-2959-000]

Take notice that the on August 29, 2001, California Independent System Operator Corporation (ISO) tendered for filing with the Federal Energy Regulatory Commission (Commission), a Meter Service Agreement for ISO Metered Entities between the ISO and GWF Energy LLC.

The ISO states that this filing has been served on GWF Energy LLC and the California Public Utilities Commission.

The ISO is requesting that the Service Agreement for ISO Metered Entities be made effective August 22, 2001.

Comment date: September 19, 2001, in accordance with Standard Paragraph E at the end of this notice.

8. California Independent System Operator Corporation

[Docket No. ER01-2960-000]

Take notice that on August 29, 2001, California Independent System Operator Corporation (ISO) tendered for filing with the Federal Energy Regulatory Commission (Commission), a Meter Service Agreement for ISO Metered Entities between the ISO and County Sanitation District No. 2 of Los Angeles County.

The ISO states that this filing has been served on County Sanitation District No. 2 of Los Angeles County and the California Public Utilities Commission.

The ISO is requesting that the Meter Service Agreement for ISO Metered Entities be made effective August 22, 2001.

Comment date: September 19, 2001, in accordance with Standard Paragraph E at the end of this notice.

9. Southern Company Services, Inc.

[Docket No. ER01-2961-000]

Take notice that on August 29, 2001, Southern Company Services, Inc., as agent for Georgia Power Company (Georgia Power), tendered for filing the Interconnection Agreement between Georgia Power and Southern Power Company (Southern Power) for Plant Dahlberg (the Agreement), as a service agreement under Southern Operating Companies' Open Access Transmission Tariff (FERC Electric Tariff, Fourth Revised Volume No. 5) and is designated as Service Agreement No. 405. The Agreement provides the general terms and conditions for the interconnection and parallel operation of Southern Power's electric generating facility located in Jackson County, Georgia. The Agreement terminates forty (40) years from the effective date unless terminated earlier by mutual written agreement.

Comment date: September 19, 2001, in accordance with Standard Paragraph E at the end of this notice.

10. California Independent System Operator Corporation

[Docket No. ER01-2962-000]

Take notice that on August 29, 2001, California Independent System Operator Corporation (ISO) tendered for filing with the Federal Energy Regulatory Commission (Commission), a Participating Generator Agreement between the ISO and County Sanitation District No. 2 of Los Angeles County.

The ISO states that this filing has been served on County Sanitation District No. 2 of Los Angeles County and the California Public Utilities Commission.

The ISO is requesting that the Participating Generator Agreement be made effective August 22, 2001.

Comment date: September 19, 2001, in accordance with Standard Paragraph E at the end of this notice.

11. Tampa Electric Company

[Docket No. ER01-2963-000]

Take notice that on August 29, 2001, Tampa Electric Company (Tampa Electric) tendered for filing with the Federal Energy Regulatory Commission (Commission), service agreements with Exelon Generation Company, LLC (Exelon) for firm point-to-point transmission service and non-firm point-to-point transmission service under Tampa Electric's open access transmission tariff.

Tampa Electric proposes an effective date of August 1, 2001, for the tendered service agreements.

Copies of the filing have been served on Exelon and the Florida Public Service Commission.

Comment date: September 19, 2001, in accordance with Standard Paragraph E at the end of this notice.

12. Midwest Independent Transmission System Operator, Inc.

[Docket No. RT01-87-001]

Take notice that on August 31, 2001, the Midwest ISO submitted its compliance filing pursuant to Section 35.34(h) of the Commission's regulations, 18 CFR 35.34(h), and the Commission's directive in Illinois Power Company, et al. to supplement its Order No. 2000 RTO Compliance Filing to reflect the effect that the events since the time of its original filing have had on the Midwest ISO's scope and configuration. Illinois Power Company, et al., 95 FERC ¶ 61,183 at 61,647 (2001).

Copies of the Midwest ISO's filing were electronically served upon Midwest ISO Members, Member representatives of Transmission Owners and Non-Transmission Owners, the Midwest ISO Advisory Committee participants, Policy Subcommittee participants, as well as all state commissions within the region.

Comment date: September 19, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR-385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22714 Filed 9-10-01; 8:45 am]

BILLING CODE 6717-01-P